NUCLEAR WASTE TECHNICAL REVIEW BOARD

U.S. Nuclear Waste Technical Review Board Meeting; Las Vegas, NV

Board Meeting: May 29, 2008—Las Vegas, Nevada; The U.S. Nuclear Waste Technical Review Board will meet to discuss the U.S. Department of Energy's Total System Performance Assessment of a proposed repository for spent nuclear fuel and high-level radioactive waste at Yucca Mountain in Nevada.

Pursuant to its authority under section 5051 of Public Law 100-203, at 8 a.m. on Thursday, May 29, 2008, the U.S. Nuclear Waste Technical Review Board will meet in Las Vegas, Nevada, to discuss the U.S. Department of Energy's (DOE) total system performance assessment (TSPA) of the proposed repository for spent nuclear fuel and high-level radioactive waste at Yucca Mountain in Nevada. TSPA is a comprehensive computational analysis used by DOE for assessing the ability of the potential repository to provide long-term isolation and containment of radionuclides. The Board was charged in the Nuclear Waste Policy Amendments Act of 1987 with conducting an independent review of the technical and scientific validity of DOE activities related to implementation of the Nuclear Waste Policy Act, including disposing of, packaging, and transporting spent nuclear fuel and high-level radioactive waste.

The meeting, which will be open to the public, will be held in the Chancellor I Room of the Embassy Suites Convention Center Hotel; 3600 Paradise Road; Las Vegas, Nevada 89169; (tel) 702-893-8000; (fax) 702-893-0708. A block of rooms has been reserved under “NWTRB” at the meeting hotel, and the telephone number for reservations is 888-243-9146. To receive the meeting rate, please make your reservations no later than May 2.

The agenda will be on the World Wide Web at http://www.nwtrb.gov and will be available on request approximately one week before the meeting date. Board Chairman B. John Garrick will call the meeting to order. Dr. Garrick's opening remarks will be followed by an overview of DOE Office of Civilian Radioactive Waste Management program activities and plans. The balance of the agenda will be devoted to a discussion of the models, assumptions, and results of the TSPA that will be submitted by DOE to the Nuclear Regulatory Commission as part of an application for authorization to begin construction of a Yucca Mountain repository.

Time will be set aside at the end of the day for public comments. Those wanting to speak are encouraged to sign the public comment register at the check-in table. Although written comments of any length may be submitted for the public record, a time limit may have to be imposed on individual remarks.

Transcripts of the meeting will be available on the Board's Web site, by e-mail, on computer disk, and on a library-loan basis in paper format from Davonya Barnes of the Board's staff no later than June 23, 2008.

For more information, contact Karyn Severson, NWTRB External Affairs: 2300 Clarendon Boulevard, Suite 1300, Arlington, VA 22201-3367, (tel) 703-235-4473, (fax) 703-235-4495.

Dated: April 22, 2008.
William D. Barnard,
Executive Director, Nuclear Waste Technical Review Board.

[FR Doc. E8-9226 Filed 4-28-08; 8:45 am]

BILLING CODE 6820-AM-M